DEPARTMENT OF HEALTH AND HUMAN SERVICES

Centers for Disease Control and Prevention

[60Day-04-22]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project: Indicators of the Performance of Local and State Education Agencies in HIV-prevention and Coordinated School Health Program Activities for Adolescent and School Health Programs—New—National Center for Chronic Disease Prevention and Health Promotion (NCCDPHP), Centers for Disease Control and Prevention (CDC). This proposed project is an annual Web-based questionnaire to assess programmatic activities among local, State and territorial education agencies (LEA, SEA and TEA) funded by CDC, National Center for Chronic Disease Prevention and Health Promotion, Division of Adolescent and School Health.

Currently, CDC does not fund a standardized annual reporting process that assesses HIV-prevention activities or coordinated school health program (CSHP) activities among LEAs, SEAs and TEAs within the National Center of Chronic Disease Prevention and Health Promotion. Data gathered from this questionnaire will: (1) Provide standardized information about how HIV-prevention and Coordinated School Health Program (CSHP) funds are used by LEAs, SEAs and TEAs; (2) assess the extent to which programmatic adjustments are indicated; (3) provide descriptive and process information about program activities; and (4) provide greater accountability for use of public funds.

There will be three Web-based questionnaires corresponding to the specific funding sources from the CDC, NCCDPHP, Division of Adolescent and School Health. Two questionnaires pertain to HIV-prevention program activities among LEAs, SEAs and TEAs. The third questionnaire pertains to CSHP activities among SEAs. The two HIV questionnaires will include questions on:

—Distribution of professional development and individualized technical assistance on school policies.

—Distribution of professional development and individualized technical assistance on education curricula and instruction.

—Distribution of professional development and individualized technical assistance assessment of student standards.

—Collaboration with external partners.

—Targeting priority populations.

—Planning and improving projects.

—Information about additional program activities.

The third questionnaire, CSHP, will also ask the questions above, however, it will focus on physical activity, nutrition, and tobacco-use prevention activities. It will include additional questions on:

—Joint activities of the State Education Agency and State Health Agency (SHA).

—Activities of the CSHP State-wide coalition.

—Health promotion programs and environmental approaches to Physical Activity, Nutrition and Tobacco (PANT)

.

There is no cost to respondents except for their time.

Respondents | No. of respondents | No. of responses per respondent | Average burden per response (in hrs.) | Total burden (in hrs.)
HIV Prevention Questionnaire: Local Education Agency Officials | 18 | 1 | 7 | 126
HIV Prevention Questionnaire: State & Territorial Education Agency Officials | 55 | 1 | 7 | 385
CSHP Questionnaire: State Education Agency Officials | 23 | 1 | 9 | 207
Total |  |  |  | 718

Dated: January 6, 2004.
Alvin Hall,
Director, Management Analysis and Services Office, Centers for Disease Control and Prevention.

[FR Doc. 04-769 Filed 1-13-04; 8:45 am]

BILLING CODE 4163-18-P